DEPARTMENT OF TRANSPORTATION

Federal Aviation Administration

14 CFR Part 39

[Docket No. FAA-2016-6429; Product Identifier 2015-NM-117-AD; Amendment 39-19083; AD 2017-22-03]

RIN 2120-AA64

Airworthiness Directives; Airbus Airplanes

AGENCY: Federal Aviation Administration (FAA), Department of Transportation (DOT).

ACTION: Final rule.

SUMMARY: We are superseding Airworthiness Directive (AD) 2015-05-02, which applied to all Airbus Model A318 and A319 series airplanes; Model A320-211, -212, -214, -231, -232, and -233 airplanes; and Model A321-111, -112, -131, -211, -212, -213, -231, and -232 airplanes. AD 2015-05-02 required revising the maintenance or inspection program to incorporate new, more restrictive airworthiness limitations. This new AD requires revising the maintenance or inspection program to incorporate new or revised structural inspection requirements and adds airplanes to the applicability. This AD was prompted by an evaluation by the design approval holder (DAH), which indicates that principal structural elements and certain life-limited parts are subject to widespread fatigue damage (WFD). We are issuing this AD to address the unsafe condition on these products.

DATES: This AD is effective November 28, 2017.

The Director of the Federal Register approved the incorporation by reference of certain publications listed in this AD as of November 28, 2017.

The Director of the Federal Register approved the incorporation by reference of certain other publications listed in this AD as of March 2, 2015 (80 FR 3871, January 26, 2015).

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Standards Branch, 1601 Lind Avenue SW., Renton, WA. For information on the availability of this material at the FAA, call 425-227-1221. It is also available on the Internet at http://www.regulations.gov by searching for and locating Docket No. FAA-2016-6429.

Examining the AD Docket

You may examine the AD docket on the Internet at http://www.regulations.gov by searching for and locating Docket No. FAA-2016-6429; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Section, Transport Standards Branch, FAA, 1601 Lind Avenue SW., Renton, WA 98057-3356; telephone 425-227-1405; fax 425-227-1149.

SUPPLEMENTARY INFORMATION:

Discussion

We issued a supplemental notice of proposed rulemaking (SNPRM) to amend 14 CFR part 39 to supersede AD 2015-05-02, Amendment 39-18112 (80 FR 15152, March 23, 2015) (“AD 2015-05-02”). AD 2015-05-02 applied to all Airbus Model A318 and A319 series airplanes; Model A320-211, -212, -214, -231, -232, and -233 airplanes; and Model A321-111, -112, -131, -211, -212, -213, -231, and -232 airplanes. The SNPRM published in the Federal Register on May 19, 2017 (82 FR 22910) (“the SNPRM”). We preceded the SNPRM with a notice of proposed rulemaking (NPRM) that published in the Federal Register on May 11, 2016 (81 FR 29198) (“the NPRM”). The NPRM was prompted by an evaluation by the DAH, which indicates that principal structural elements and certain life limited parts are subject to WFD. The NPRM proposed to require revising the maintenance or inspection program, as applicable, to incorporate new or revised structural inspection requirements. The SNPRM proposed to require more restrictive airworthiness limitations and add Model A320-251N and -271N airplanes to the applicability. We are issuing this AD to prevent fatigue cracking, accidental damage, or corrosion in principal structural elements, and WFD, which could result in reduced structural integrity of the airplane.

The European Aviation Safety Agency (EASA), which is the Technical Agent for the Member States of the European Union, has issued EASA Airworthiness Directive 2016-0239, dated December 2, 2016 (referred to after this as the Mandatory Continuing Airworthiness Information, or “the MCAI”), to correct an unsafe condition. The MCAI states:

The airworthiness limitations for Airbus A320 family aeroplanes are currently included in Airbus A318/A319/A320/A321 Airworthiness Limitations Section (ALS) documents. The Damage Tolerant Airworthiness Limitation Items are published in ALS Part 2, approved by EASA.

The instructions contained in the ALS Part 2 have been identified as mandatory actions for continued airworthiness. Failure to comply with these instructions could result in an unsafe condition.

Previously, EASA issued AD 2015-0083 to require accomplishment of all maintenance tasks as described in ALS Part 2 at Revision 03. Since that [EASA] AD was issued, Airbus issued Revision 04, and later on Revision 05 of the ALS Part 2, including new and/or more restrictive items, and new A320 models were certified.

For the reason described above, this [EASA] AD retains the requirements of EASA AD 2015-0083, which is superseded, expands the Applicability by adding the models A320-251N and A320-271N, requires accomplishment of all maintenance tasks as described in the ALS Part 2, Revision 05 (hereafter referred to as `the ALS' in this [EASA] AD), and provides specific compliance times for ALS task 572021-01-1 (Wide Spread Fatigue Damage related).

The required action is revising the maintenance or inspection program to incorporate new or revised structural inspection requirements. The unsafe condition is fatigue cracking, accidental damage, or corrosion in principal structural elements, and WFD, which could result in reduced structural integrity of the airplane. You may examine the MCAI in the AD docket on the Internet at http://www.regulations.gov by searching for and locating Docket No. FAA-2016-6429.

Comments

We gave the public the opportunity to participate in developing this AD. The following presents the comment received on the SNPRM and the FAA's response to the comment.

Request To Reference Revised Service Information

American Airlines (AAL) requested that we revise the SNPRM to incorporate Airbus A318/A319/A320/A321 ALS Part 1—Safe Life Airworthiness Limitation Items (SL—ALI), Revision 05, dated April 6, 2017, including Variations 5.1 and 5.2; and Airbus A318/A319/A320/A321 ALS Part 2—Damage Tolerant Airworthiness Limitation Items (DT—ALI), Revision 06, dated April 10, 2017.

We partially agree with AAL's request. We agree that operators should use the latest service information, and we agree to account for AAL's request in this AD. However, we do not agree to require the revised service information in this final rule since it would expand the scope, requiring additional notice and comment. We find that delaying this action would be inappropriate in light of the identified unsafe condition. We are considering further rulemaking to supersede this final rule to require incorporating the revised service information.

We have added paragraph (l)(1)(iii) to this AD to specify that the previous alternative methods of compliance (AMOCs) that are approved for AD 2015-05-02 are approved as AMOCs for the corresponding provisions of paragraphs (i) and (j) of this AD. The previous AMOCs include Airbus A318/A319/A320/A321 ALS Part 1—Safe Life Airworthiness Limitation Items (SL—ALI), Revision 05, dated April 6, 2017, including Variations 5.1 and 5.2; and Airbus A318/A319/A320/A321 ALS Part 2—Damage Tolerant Airworthiness Limitation Items (DT—ALI), Revision 06, dated April 10, 2017.

Conclusion

We reviewed the available data, including the comment received, and determined that air safety and the public interest require adopting this AD as proposed except for minor editorial changes. We have determined that these minor changes:

• Are consistent with the intent that was proposed in the SNPRM for correcting the unsafe condition; and

• Do not add any additional burden upon the public than was already proposed in the SNPRM.

Related Service Information Under 1 CFR Part 51

Airbus has issued the following service information.

• A318/A319/A320/A321 ALS Part 1—Safe Life Airworthiness Limitation Items (SL—ALI), Revision 04, dated June 20, 2016. This service information describes mandatory instructions and airworthiness limitations for the “safe-life” structure.

• A318/A319/A320/A321 ALS Part 2—Damage Tolerant Airworthiness Limitation Items (DT—ALI), Revision 05, dated July 8, 2016. This service information describes mandatory instructions and airworthiness limitations arising from fatigue and damage tolerance evaluation of damage tolerant structural elements.

This service information is reasonably available because the interested parties have access to it through their normal course of business or by the means identified in the ADDRESSES section.

Costs of Compliance

We estimate that this AD affects 1,182 airplanes of U.S. registry.

The actions required by AD 2015-05-02, and retained in this AD, take about 2 work-hours per product, at an average labor rate of $85 per work-hour. Based on these figures, the estimated cost of the actions that are required by AD 2015-05-02 is $170 per product.

We also estimate that it will take about 2 work-hours per product to comply with the basic requirements of this AD. The average labor rate is $85 per work-hour. Based on these figures, we estimate the cost of this AD on U.S. operators to be $200,940, or $170 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-05-02, Amendment 39-18112 (80 FR 15152, March 23, 2015), and adding the following new AD:

2017-22-03 Airbus Amendment 39-19083; Docket No. FAA-2016-6429; Product Identifier 2015-NM-117-AD.

(a) Effective Date

This AD is effective November 28, 2017.

(b) Affected ADs

This AD replaces AD 2015-05-02, Amendment 39-18112 (80 FR 15152, March 23, 2015) (“AD 2015-05-02”).

(c) Applicability

This AD applies to the Airbus airplanes identified in paragraphs (c)(1) through (c)(4) of this AD, certificated in any category, with an original certificate of airworthiness or original export certificate of airworthiness issued on or before July 8, 2016.

(1) Model A318-111, -112, -121, and -122 airplanes.

(2) Model A319-111, -112, -113, -114, -115, -131, -132, and -133 airplanes.

(3) Model A320-211, -212, -214, -216, -231, -232, -233, -251N, and -271N airplanes.

(4) Model A321-111, -112, -131, -211, -212, -213, -231, and -232 airplanes.

(d) Subject

Air Transport Association (ATA) of America Code 05, Periodic Inspections.

(e) Reason

This AD was prompted by an evaluation by the design approval holder which indicates that principal structural elements and certain life-limited parts are subject to widespread fatigue damage (WFD). We are issuing this AD to prevent fatigue cracking, accidental damage, or corrosion in principal structural elements, and WFD, which could result in reduced structural integrity of the airplane.

(f) Compliance

Comply with this AD within the compliance times specified, unless already done.

(g) Retained Maintenance or Inspection Program Revision, With No Changes

This paragraph restates the requirements of paragraph (n) of AD 2015-05-02, with no changes. Within 30 days after March 2, 2015 (the effective date of AD 2014-23-15, Amendment 39-18031 (80 FR 3871, January 26, 2015) (“AD 2014-23-15”)), revise the maintenance or inspection program, as applicable, to incorporate the Airworthiness Limitation Items (ALIs) specified in paragraphs (g)(1) and (g)(2) of this AD. The initial compliance time for accomplishing the actions is at the applicable time identified in the ALIs specified in paragraphs (g)(1) and (g)(2) of this AD; or within 4 months after March 2, 2015 (the effective date of AD 2014-23-15); whichever occurs later.

(1) Airbus A318/A319/A320/A321 Airworthiness Limitations Section (ALS) Part 1—Safe Life Airworthiness Limitation Items, Revision 02, dated May 13, 2011.

(2) Airbus A318/A319/A320/A321 ALS Part 2—Damage-Tolerant Airworthiness Limitation Items (DT ALI), Revision 02, dated May 28, 2013.

(h) Retained Limitation: No Alternative Actions, Intervals, and/or Critical Design Configuration Control Limitations (CDCCLs), With an Exception

This paragraph restates the requirements of paragraph (o) of AD 2015-05-02, with an exception. Except as specified in paragraph (i) or (j) of this AD, as applicable, after accomplishing the revision required by paragraph (g) of this AD, no alternative actions (e.g., inspections), intervals, and/or CDCCLs may be used unless the actions, intervals, and/or CDCCLs are approved as an alternative method of compliance (AMOC) in accordance with the procedures specified in paragraph (l)(1) of this AD.

(i) New Maintenance or Inspection Program Revision

Within 60 days after the effective date of this AD, revise the maintenance or inspection program, as applicable, to incorporate the ALIs specified in Airbus A318/A319/A320/A321 ALS Part 2—Damage Tolerant Airworthiness Limitation Items (DT—ALI), Revision 05, dated July 8, 2016. The initial compliance time for accomplishing the actions is at the applicable time identified in the ALIs specified in Airbus A318/A319/A320/A321 ALS Part 2—DT—ALI, Revision 05, dated July 8, 2016, without exceeding the inspection intervals in the ALIs specified in the service information identified in paragraph (g)(2) of this AD. Accomplishing this action terminates the requirements of paragraph (g)(2) of this AD.

(j) New Method of Compliance for Maintenance or Inspection Program Revision

Revising the maintenance or inspection program, as applicable, to incorporate the ALIs specified in Airbus A318/A319/A320/A321 ALS Part 1—Safe Life Airworthiness Limitation Items (SL—ALI), Revision 04, dated June 20, 2016, is a method of compliance for the actions required by paragraph (g)(1) of this AD. The initial compliance time for accomplishing the actions is at the applicable time identified in the ALIs specified in Airbus A318/A319/A320/A321 ALS Part 1—SL—ALI, Revision 04, dated June 20, 2016, without exceeding the inspection intervals in the ALIs specified in the service information identified in paragraph (g)(1) of this AD. Accomplishing this action terminates the requirements of paragraph (g)(1) of this AD.

(k) New No Alternative Actions and/or Intervals

After accomplishing the revision required by paragraph (i) or specified in paragraph (j) of this AD, no alternative actions (e.g., inspections) and/or intervals may be used unless the actions and/or intervals are approved as an AMOC in accordance with the procedures specified in paragraph (l)(1) of this AD.

(l) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2015-05-02, are approved as AMOCs for the corresponding provisions of paragraphs (g) and (h) of this AD.

(iii) AMOCs approved previously for AD 2015-05-02, which are included in the FAA AMOC letters specified in paragraphs (l)(1)(iii)(A) and (l)(1)(iii)(B), are approved as AMOCs for the corresponding provisions of paragraphs (i) and (j) of this AD.

(A) FAA AMOC letter ANM-116-17-002R1, dated November 14, 2016.

(B) FAA AMOC letter ANM-116-17-323, dated June 12, 2017.

(2) Contacting the Manufacturer: As of the effective date of this AD, for any requirement in this AD to obtain corrective actions from a manufacturer, the action must be accomplished using a method approved by the Manager, International Section, Transport Standards Branch, FAA; or the European Aviation Safety Agency (EASA); or Airbus's EASA Design Organization Approval (DOA). If approved by the DOA, the approval must include the DOA-authorized signature.

(m) Related Information

(1) Refer to Mandatory Continuing Airworthiness Information (MCAI) EASA Airworthiness Directive 2016-0239, dated December 2, 2016, for related information. This MCAI may be found in the AD docket on the Internet at http://www.regulations.gov by searching for and locating Docket No. FAA-2016-6429.

(2) For more information about this AD, contact Sanjay Ralhan, Aerospace Engineer, International Section, Transport Standards Branch, FAA, 1601 Lind Avenue SW., Renton, WA 98057-3356; telephone 425-227-1405; fax 425-227-1149.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on November 28, 2017.

(i) Airbus A318/A319/A320/A321 Airworthiness Limitations Section (ALS) Part 1—Safe Life—Airworthiness Limitation Items (SL—ALI), Revision 04, dated June 20, 2016.

(ii) Airbus A318/A319/A320/A321 Airworthiness Limitations Section (ALS) Part 2—Damage Tolerant Airworthiness Limitation Items (DT—ALI), Revision 05, dated July 8, 2016.

(4) The following service information was approved for IBR on March 2, 2015 (80 FR 3871, January 26, 2015).

(i) Airbus A318/A319/A320/A321 ALS Part 1—Safe Life Airworthiness Limitation Items, Revision 02, dated May 13, 2011. The revision level of this document is identified on only the title page and in the Record of Revisions. The revision date is not identified on the title page of this document.

(ii) Airbus A318/A319/A320/A321 ALS Part 2—Damage-Tolerant Airworthiness Limitation Items (DT ALI), Revision 02, dated May 28, 2013. The revision date of this document is not identified on the title page of this document.

(5) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(6) You may view this service information at the FAA, Transport Standards Branch, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on October 11, 2017.
Jeffrey E. Duven,
Director, System Oversight Division, Aircraft Certification Service.

[FR Doc. 2017-22949 Filed 10-23-17; 8:45 am]

BILLING CODE 4910-13-P